DEPARTMENT OF LABOR

Pension and Welfare Benefits Administration

Working Group on Education and Training of Plan Fiduciaries; Advisory Council on Employee Welfare and Pension Benefits Plans; Notice of Meeting

Pursuant to the authority contained in section 512 of the Employee Retirement Income Security Act of 1974 (ERISA), 29 U.S.C. 1142, the Working Group assigned by the Advisory Council on Employee Welfare and Pension Benefit Plans to study the issue of educating and training plan fiduciaries will hold an open public meeting on Thursday, September 19, 2002, in Room N-5437, A-C, U.S. Department of Labor Building, 200 Constitution Avenue, NW, Washington, DC 20210. The purpose of the Working Group is to study means by which the Labor Department could effectively promote and improve the education and training of employee benefit plan fiduciaries.

The purpose of the open meeting, which will run from 9 a.m. to approximately 4 p.m. with a one-hour lunch break at noon, is for Working Group members to hear testimony from invited witnesses.

Members of the public are encouraged to file a written statement pertaining to the topic by sending 20 copies on or before September 12, 2002, to Sharon Morrissey, Executive Secretary, ERISA Advisory Council, U.S. Department of Labor, Room N-5677,200 Constitution Avenue, NW, Washington, DC 20210. Individuals or representatives of organizations wishing to address the Working Group should forward their request to the Executive Secretary or telephone (202) 693-8668. Oral presentations will be limited to 20 minutes, but an extended statement may be submitted for the record. Individuals with disabilities who need special accommodations should contact Sharon Morrissey by September 12, at the address indicated in this notice.

Organizations or individuals may also submit statements for the record without testifying. Twenty (20) copies of such statements should be sent to the Executive Secretary of the Advisory Council at the above address. Papers will be accepted and included in the record of the meeting if received on or before September 12.

Signed at Washington, DC this 27th day of August, 2002.
Ann L. Combs,
Assistant Secretary, Pension and Welfare Benefits Administration.

[FR Doc. 02-21764 Filed 8-26-02; 8:45 am]

BILLING CODE 4510-29-M